DEPARTMENT OF COMMERCE

National Oceanic and Atmospheric Administration

[RTID 0648-XA802]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Private Recreational Reporting Workgroup evaluating reporting alternatives for the private recreational sector in the snapper grouper fishery.

DATES: The Workgroup meeting will be held from 1 p.m. until 4:30 p.m. on Wednesday, February 17, 2021.

ADDRESSES: The meeting will be held via webinar. Webinar registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including the webinar link, agenda, briefing book materials and an online public comment form will be posted on the Council's website at: https://safmc.net/safmc-meetings/other-meetings/.

Agenda items include:

1. Develop Workgroup goals and objectives.

2. Review of the Florida Fish and Wildlife Conservation Commission's State Reef Fish Survey.

3. Update on the Marine Recreational Information Program rare event workgroup.

4. Identify topics for discussion or presentation at the next meeting.

Written comments on agenda topics for this meeting may be directed to John Carmichael, Executive Director, South Atlantic Fishery Management Council (see Further Information for Council address) or electronically via the Council's website at: https://safmc.net/safmc-meetings/other-meetings/. Public comments are due by February 9, 2021.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the council office (see ADDRESSES) 5 days prior to the meeting.

Note: The times and sequence specified in this agenda are subject to change.

(Authority: 16 U.S.C. 1801 et seq.)

Dated: January 12, 2021.
Rey Israel Marquez,
Acting Deputy Director, Office of Sustainable Fisheries, National Marine Fisheries Service.

[FR Doc. 2021-00910 Filed 1-14-21; 8:45 am]

BILLING CODE 3510-22-P